DEPARTMENT OF VETERANS AFFAIRS

System Name: Privacy Act of 1974, Altered System of Records, General Personnel Records (Title 38)—VA 76VA05

AGENCY: Department of Veterans Affairs.

ACTION: Notice.

SUMMARY: Notice is hereby given that the Department of Veterans Affairs (VA) is republishing the system of records entitled General Personnel Records (Title 38)—VA (76VA05) as set forth in the Federal Register 53 FR 27258 (7/19/88) and amended in 55 FR 42534 (10/19/90), 58 FR 40852 (7/30/93), and 61 FR 14853 (4/3/96). Changes in law, regulation, technology, function, and organization have resulted in the system notice being out of date. Alterations include the paragraphs for System Location, Individuals Covered by the System of Records, Categories of Records in the System, Routine Uses of the Information, Legal Authority to Maintain the System of Records, and Procedures Related to Storing, Retrieving, Accessing, Retaining, and Disposing of Information in the System of Records. VA is republishing the system notice in its entirety at this time.

DATES: Submit comments on or before August 21, 2000.

ADDRESSES: Interested persons are invited to submit written comments, suggestions, or objections regarding this system of records to the Director, Office of Regulations Management (02D), 810 Vermont Avenue, NW, Washington, DC 20420. All written comments received will be available for public inspection in the Office of Regulations Management, Room 1154, 810 Vermont Avenue, NW, Washington, DC 20420 only between the hours of 8 a.m. and 4:30 p.m., Monday through Friday, except holidays. If no public comment is received during the 30-day review period allowed for public comment, or unless otherwise published in the Federal Register by VA, the reissued system of records is effective August 21, 2000.

FOR FURTHER INFORMATION CONTACT: Mr. Brian McVeigh, Department of Veterans Affairs (051A), 810 Vermont Avenue, NW, Washington, DC 20420, (202) 273-9821.

SUPPLEMENTARY INFORMATION: The system location is being changed to include the VA Shared Service Center, 3401 SW 21st Street, Topeka, Kansas 66604 and the offices of non-Federal contractors or subcontractors who may maintain these records. VA is improving its human resources and payroll services and part of that process may include permanently moving records to a centralized location. At this time, the records of employees in Veterans Integrated Service Network 2 and the Atlanta VA Medical Center have been temporarily relocated to the Shared Service Center as a prototype. If the records of employees covered by this system of records are permanently relocated to either of these newly added locations, notice will be provided in the Federal Register. The name of the VA Data Processing Center is also being changed to reflect its current title, the VA Austin Automation Center.

The categories of individuals covered by this system of records are being modified to exclude residents appointed on an intermittent basis under 38 U.S.C. 7406 if their stipends are centrally administered under the provisions of 38 U.S.C. 7406(c). VA will no longer maintain records on these employees, since they are ineligible for Federal benefits as a result of their VA service. Coverage is also clarified to indicate that the system of records does not cover employees appointed on a fee or without compensation basis under 38 U.S.C. 7405. They are covered by the system of records entitled Individuals Serving on a Fee Basis or Without Compensation (Consultants, Attendings, Others) Personnel Records-VA (14VA135). In addition, this system of records does not cover VA employees appointed under chapter 3 or 71 of Title 38, U.S. Code.

The categories of records in the system are being changed as follows:

a. Because of the Veterans Health Care Eligibility Reform Act of 1996, Pub.L. 104-262, dated October 9, 1996, employee certification of outside professional activities is no longer required and has not been collected since October 9, 1996. Information concerning certifications prior to October 9, 1996, will remain in the system of records.

b. Information concerning competency assessments, proficiency reports, employee statements regarding proficiency reports given and any recommendations based on them, as well as professional standards board actions and any documents associated with those actions, are being removed from this system. These records are being included in a new system of records entitled Professional Standards Board Action and Proficiency Rating Folder (Title 38)—VA (101VA05), which is being released simultaneously with this notice.

c. Records associated with processing disciplinary and adverse actions, actions based on inaptitude, inefficiency, misconduct, disqualification during probation, physical disqualification, agency-initiated disability retirements, and suitability determinations are being removed from this system of records. This includes any notice of proposed action, materials relied on by VA to support the reason(s) for the action, replies by employees or their representatives, statements of witnesses, hearing notices and reports related to these actions. These records are being included in a new system of records entitled Agency-Initiated Personnel Actions (Title 38)—VA (102VA05), which is being released simultaneously with this notice.

d. Certain records relating to an employee's participation in the Federal Retirement Investment Thrift Savings Board's Thrift Savings Plan are being added as a relevant and necessary part of this system of records.

The authority for maintenance of the system is being modified to reflect the 1992 reorganization of Title 38, United States Code.

Information concerning the purpose of this system of records has been added. The previous system notice was published before such information was required.

The routine uses of information in this system of records, including categories of users and the purposes of such uses, are being modified as follows:

a. Routine use 1 relating to disclosures to the Office of Personnel Management has been deleted. Such disclosures are only made from the system of records entitled Personnel and Accounting Pay System-VA (27VA047).

b. Routine use 3 relating to disclosures of information to colleges and universities has been split into two routine uses (numbers 2 and 3), since such disclosures are made for two different reasons.

c. Routine uses 8 and 9 relating to awards, honors, and other types of employee recognition have been modified to more clearly indicate what disclosures are made, to whom the disclosures are made and the purposes of such disclosures.

d. Routine use 10 is being modified to clarify the conditions under which data is disclosed to officials of labor organizations recognized under 5 U.S.C., chapter 71. The clarification ties such disclosures to the law authorizing the disclosures, i.e., 5 U.S.C. 7114(b)(4). The former version authorized disclosures to officials of labor organizations “when relevant and necessary to their duties of exclusive representation concerning personnel policies, practices, and matters affecting working conditions.”

e. Routine use 11 is modified. VA is prohibited from promulgating routine uses that would permit disclosures in response to requests for information for civil or law enforcement purposes or in response to court orders. Such requests must be submitted under the provisions of 5 U.S.C. 552a(b)(7) or (b)(11), as applicable. See Doe v. DiGenova, 779 F. 2d 74 (D.C Cir. 1985) and Doe v. Stephens, 851 F. 2d 1457 (D.C. Cir. 1988), and an August 28, 1989, opinion from the Office of Legal Counsel, Department of Justice. Routine use 11 no longer includes such disclosures; however, it has been modified to permit VA to disclose, on its own initiative, relevant information if there is reason to believe that a violation of statute, rule or regulation has occurred.

f. Routine use 14 no longer permits disclosures at the request of agencies in the executive, legislative, or judicial branch of the Federal government, or to the government of the District of Columbia for investigative purposes. Such requests must be submitted under the provisions of 5 U.S.C. 552a(b)(7). That portion of the routine use has been deleted.

g. Routine use 15 has been modified to limit the reason for such disclosures to obtaining accreditation or other approval ratings. It also now permits disclosures to other Federal agencies for this purpose. The former version of this routine use was overly broad.

h. Routine use 18 has been modified so that it no longer permits disclosures in response to subpoenas or court orders. Applicable case law (see paragraph e above) prohibits disclosures in response to subpoenas. Court orders directing the production of information must also meet the requirements of 5 U.S.C. 552a(b)(11). The revised routine use would permit VA to disclose relevant information on its own initiative in certain legal proceedings if VA is party to those proceedings and disclosure is necessary to protect its interests.

i. Routine use 19, relating to requests for discovery or for the appearance of witnesses, has been deleted, since it is no longer consistent with applicable case law (see paragraph e above).

j. Routine use 24 related to disclosures to VA-appointed representatives concerning fitness for duty examinations and disability retirement procedures has been deleted. The information is being removed from this system of records and placed in a new system entitled Agency-Initiated Personnel Actions (Title 38)—VA (102VA05).

k. Routine use 25, concerning disclosures because an individual may have contracted an illness, been exposed to, or suffered from a health hazard while employed by the Federal government, is being deleted. This subject is addressed in 5 U.S.C. 552a(b)(8).

l. Routine use 29 (now 26), is being changed to delete the language concerning disclosures to the Equal Employment Opportunity Commission to ensure compliance with the Uniform Guidelines on Employee Selection Procedures, since VA has not chosen to adopt the Uniform Guidelines for use in its Title 38 employment procedures.

m. Routine use 30 (now 27), is being clarified to indicate that disclosures to the Federal Labor Relations Authority and Federal Service Impasses Panel may only be made after appropriate jurisdiction has been established. Matters or questions concerning or arising out of (1) professional conduct or competence, (2) peer review and (3) the establishment, determination or adjustment of compensation shall be decided by the Secretary of Veterans Affairs and is not itself subject to collective bargaining and may not be reviewed by another agency. See 38 U.S.C. 7422.

n. Routine use 32 (now 29) is being modified to include Federal agencies. For example, disclosures will be made to the Department of Health and Human Services Exclusionary Database as required by Pub. L. 105-53.

o. Routine use 33 regarding disclosures of information in response to requests from agencies responsible for the issuance, retention or revocation of licenses, certification or registrations required to practice a health care profession has been deleted. Such requests must conform to the requirements of 5 U.S.C. 552a(b)(7).

p. Routine uses 35 and 36, relating to disclosures of information through computer matching, have been deleted, as such disclosures are not made from this system of records.

q. Routine use 39 (now 33) concerning disclosures to license monitoring agencies is being modified to exclude language concerning computer matching. Such disclosures are not made from this system of records.

r. New routine uses are proposed as follows:

(1) Number 35 would permit disclosures to contractors, subcontractors, grantees, or volunteers performing or working on a contract, service, grant, cooperative agreement, or job for the Federal government. However, such disclosures must be in the interest of VA and compatible with the intended purposes for which the record was created.

(2) Number 36 permits, upon request, disclosure to a spouse or dependent child (or a court-appointed guardian thereof) of a VA employee enrolled in the Federal Employees Health Benefits Program, whether the employee changed from a self-and-family enrollment to self-only health benefits enrollment. Such disclosures are made to ensure proper administration of Federal health benefits.

(3) Number 37 permits disclosing information to the Federal Retirement Thrift Investment Board certain information concerning employee participation in the Thrift Savings Plan.

(4) Number 38 permits disclosing information concerning information to the Department of Health and Human Services' Healthcare Integrity and Protection Data Base pursuant to section 221(a), Pub. L. 104-191, and the associated Department of Health and Human Services regulations, 45 CFR part 61.

The policies and practices for storing, retrieving, accessing, retaining, and disposing of records in the system are being modified to reflect changes in technology and to provide additional information concerning the safeguards used to protect these records. For example, when VA updates the way it provides personnel and payroll services, individuals will be given remote on-line access to certain documents pertaining to them, e.g., the Notification of Personnel Action, Standard Form 50-B. In the course of providing access, VA will maintain automated information found in this system of records on its Intranet web site. Employees will remotely access this information from access points located at VA stations and/or from their computer desktop. Access will be read-only with printing capability, but restricted through the issuance of user identification codes and personal identification numbers (PINS). User identification codes and PINS will be issued by the VA Shared Service Center. They will not retain a copy of the PIN. If an employee forgets the PIN, he or she must have the PIN reset by the VA Shared Service Center, which will then mail a new PIN to the employee's home address. Security devices (e.g. passwords, firewall) are used to control access by VA users and to shield VA networks and systems from users outside the firewall. VA employees, contractors, or subcontractors responsible for maintaining this system of records will be required to establish the necessary controls to ensure that records are protected against loss or unauthorized adulteration and can be located when necessary. They will also be required to ensure that records are protected against unauthorized access and that they understand and apply Privacy Act restrictions on disclosing information from this system of records. Employees are subject to disciplinary action and contractors or subcontractors are subject to sanction for knowingly making an unauthorized disclosure from this system or records or otherwise failing to comply with the requirements related to maintaining and disposing of records. Information concerning the exchange of data between the VA Austin Automation Center and VA facilities is also being updated to reflect changes in technology. Exchange of information between the Austin Automation Center and VA health care facilities will be over VA's Intranet. The reference to the VADATS telecommunications network has been deleted since it is no longer in operation.

Notification procedures, records access procedures and procedures for contesting the contents of records are being changed to reflect the realignment of these functions within the Department of Veterans Affairs.

Approved: July 6, 2000.
Togo D. West, Jr.,
Secretary of Veterans Affairs.

76VA05

System Name:

Altered System of Records, General Personnel Records (Title 38)-VA.

System Location:

Active records are maintained at the Department of Veterans Affairs (VA) Central Office, 810 Vermont Avenue, NW., Washington, DC 20420; VA field facilities; VA Austin Automation Center, 1615 East Woodward Street, Austin, Texas 78772; VA Shared Service Center, 3401 SW 21st Street, Topeka, Kansas 66604; and offices of contractors or subcontractors who may maintain these records. When VA determines that portions of these records need to be maintained at different locations or that copies of these records need to be maintained at more than one location, e.g., at the Shared Service Center and administrative offices closer to where employees actually work, such records are covered by this system. Inactive records are retired to the National Personnel Records Center, 111 Winnebago Street, St. Louis, Missouri 63118. Records not considered long-term records, but which may be retained in this system or elsewhere during employment, and which are also included in this system, may be retained for a period of time after the employee leaves service. However, such records will be disposed of in accordance with the procedures for retention and disposal outlined below. The phrase “long-term” record describes records that are filed on the right side of the Merged Records Personnel Folder (MRPF) (Standard Form 66-C).

Note 1: It is not VA's intent to limit this system of records to those records physically within the MRPF. Records may be filed in other folders located in offices other than where the MRPF is located, e.g., working files that supervisors or other agency officials use that are derived from 76VA05 may be kept in a more convenient location.

Categories of Individuals Covered by the System:

Current and former employees appointed under 38 U.S.C. 7306, 7401(1), 7401(3), and 38 U.S.C. 7405 except those appointed on a fee or without compensation basis, and residents appointed under 38 U.S.C. 7406 whose stipends and fringe benefits are not centrally administered under the provisions of 38 U.S.C. 7406(c). This includes employees such as physicians, dentists, podiatrists, optometrists, nurses, nurse anesthetists, physician assistants, expanded-function dental auxiliaries, certified respiratory therapy technicians, registered respiratory therapists, licensed physical therapists, licensed practical or vocational nurses, occupational therapists, and pharmacists. Current and former employees appointed under 38 U.S.C. Chapter 78 to positions in the Veterans Canteen Service are covered by this system.

Categories of Records in the System:

All categories of records may include identifying information, such as names(s), date of birth, home address, mailing address, Social Security number, and telephone number(s). Records in this system are:

a. Records reflecting work experience, licensure, credentials, educational level achieved, and specialized education or training occurring outside of Federal service.

b. Records reflecting Federal service and documenting work experience, education, training, and/or awards received while employed. Such records contain information about past and present positions held; grades; salaries; duty station locations; and notices of all personnel actions, such as appointments, transfers, reassignments, details, promotions, demotions, staffing adjustments or reductions-in-force, resignations, separations, suspensions, removals, retirements, and approval of disability retirement applications.

c. Records relating to an Intergovernmental Personnel Act assignment or Federal-private sector exchange program.

d. Records regarding Government-sponsored training or participation in employee development programs designed to broaden an employee's work experiences or for the purposes of advancement.

e. Printouts of information from automated personnel systems, e.g., information from the Personnel and Accounting Pay System-VA (27VA047).

f. Records reflecting enrollment or declination of enrollment in the Federal Employees' Group Life Insurance Program and Federal Employees' Health Benefits Program as well as forms showing designations of beneficiary.

g. Elections to participate in the Thrift Savings Plan, Notices that Thrift Savings Plan Contributions cannot be made because a financial hardship withdrawal has been issued and transcripts of Thrift Savings Plan changes approved for use by the Federal Retirement Thrift Investment Board.

h. Records relating to designations for lump-sum leave benefits.

i. Records relating to access to classified information and other nondisclosure agreements.

j. Records related to certification of outside professional activities prior to enactment of the Veterans Health Care Eligibility Reform Act of 1996, Pub. L. 104-262, dated October 9, 1996.

Authority for Maintenance of the System:

38 U.S.C. 501(a), 7304, 7406(c)(1), and 7802.

Purposes(s):

The personnel records in these files are the official repository of the records, reports of personnel actions and the documents and papers associated with these actions. The personnel action reports and other documents give legal force and effect to personnel transactions and establish employee rights and benefits under pertinent laws and regulations governing Federal employment. They provide the basic source of factual data about a person's Federal employment while in the service and after his or her separation. Records in this system have various uses, including screening qualifications of employees; determining status, eligibility, and rights and benefits under pertinent laws and regulations governing Federal employment; computing length of service; and other information needed to provide personnel services.

Routine Uses of Records Maintained in the System, Including Categories of Users and the Purposes of Such Uses:

1. To disclose information to Government training facilities (Federal, State, and local) and to non-Government training facilities (private vendors of training courses or programs, private schools, etc.) for training purposes.

2. To disclose information to educational institutions about the appointment of their recent graduates to VA positions. These disclosures are made to enhance recruiting relationships between VA and these institutions.

3. To provide college and university officials with information about students who are working at VA to receive academic credit for the experience.

4. To disclose to the following agencies information needed to adjudicate retirement, insurance or health benefits claims: Department of Labor, Social Security Administration, Department of Defense, Federal agencies having special civilian employee retirement programs, and state, county, municipal, or other publicly recognized charitable or income security administration agencies (e.g., State unemployment compensation agencies), when necessary to adjudicate a claim under the retirement, insurance or health benefits programs of the Office of Personnel Management or an agency cited above. Information may also be disclosed to agencies to conduct an analytical study or audit of benefits being paid under such programs.

5. To disclose to the Office of Federal Employees' Group Life Insurance information necessary to verify election, declination, or waiver of regular and/or optional life insurance coverage or eligibility for payment of a claim for life insurance.

6. To disclose to health insurance carriers contracting with the Office of Personnel Management to provide a health benefits plan under the Federal Health Benefits Program, information necessary to identify enrollment in a plan, to verify eligibility for payment of a claim for health benefits, or to carry out the coordination or audit of benefits provisions of such contracts.

7. To disclose information to a Federal, State, or local agency for determination of an individual's entitlement to benefits in connection with Federal Housing Administration programs.

8. To disclose relevant information to third parties considering VA employees for awards or recognition and to publicize information about such awards or recognition. This may include disclosures to public and private organizations, including news media, which grant or publicize employee awards or honors.

9. To disclose information about incentive awards and other awards or honors granted by VA. This may include disclosure to public and private organizations, including news media, which publicize such recognition.

10. To disclose the information listed in 5 U.S.C. 7114(b)(4) to officials of labor organizations recognized under 5 U.S.C. Chapter 71 when relevant and necessary to their duties of exclusive representation concerning personnel policies, practices, and matters affecting working conditions.

11. VA may, on its own initiative, disclose relevant information to a Federal agency (including Offices of the Inspector General), State, or local agency responsible for investigating, prosecuting, enforcing, or implementing a statute, rule, regulation if there is reason to believe that a violation may have occurred. This routine use does not authorize disclosures in response to requests for information for civil or criminal law enforcement activity purposes, nor does it authorize disclosure of information in response to court orders. Such requests must meet the requirements of 5 U.S.C. 552a(b)(7) or (b)(11), as applicable.

12. To disclose pertinent information to any source when necessary to obtain information relevant to a conflict-of-interest investigation or determination.

13. To disclose information to any source from which additional information is requested (to the extent necessary to identify the individual, inform the source of the purposes(s) of the request, and to identify the type of information requested), when necessary to obtain information relevant to an agency decision concerning the hiring or retention of an employee, the issuance of a security clearance, the conducting of a security or suitability investigation of an individual, the letting of a contract, or the issuance of a license, grant, or other benefit.

14. To disclose to an agency in the executive, legislative, or judicial branch, or the District of Columbia's Government in response to its request, or at the initiation of VA, information in connection with the hiring of an employee, the issuance of a security clearance, the conducting of a security or suitability investigation of an individual, the letting of a contract, the issuance of a license, grant or other benefit by the requesting agency, or the lawful statutory or administrative purpose of the agency to the extent that the information is relevant and necessary to the requesting agency's decision.

15. To disclose relevant information to Federal and non-Federal agencies (i.e., State or local governments), and private sector organizations, boards, bureaus, or commissions (e.g., the Joint Commission on Accreditation of Healthcare Organizations) when such disclosures are required to obtain accreditation or other approval ratings.

16. To disclose information to the Office of Management and Budget at any stage in the legislative coordination and clearance process in connection with private relief legislation as set forth in OMB Circular No. A-19.

17. To provide information to a congressional office from the records of an individual in response to an inquiry from the congressional office made at the request of the individual.

18. VA may, on its own initiative, disclose information to another Federal agency, court, or party in litigation before a court or other administrative proceeding conducted by a Federal agency, if VA is a party to the proceeding and VA needs to disclose such information to protect its interests.

19. To disclose information to the National Archives and Records Administration (NARA) for records management inspections conducted under authority of 44 U.S.C. 2904 and 2906.

20. To disclose to persons engaged in research and survey projects information necessary to locate individuals for personnel research or survey response, and to produce summary descriptive statistics and analytical studies in support of the function for which the records are collected and maintained, or for related workforce studies. While published statistics and studies do not contain individual identifiers, in some instances, the selection of elements of data included in the study may be structured in such a way as to make the data individually identifiable by inference.

21. To provide an official of another Federal agency information needed in the performance of official duties related to reconciling or reconstructing data files in support of the functions for which the records were collected and maintained.

22. When an individual to whom records pertain is mentally incompetent or under other legal disability, information in the individual's records may be disclosed to any person or entity responsible for managing the individual finances to the extent necessary to ensure payment of benefits to which the individual is entitled.

23. To disclose to the Department of Defense specific civil service employment information required under law on individuals identified as members of the Ready Reserve, to ensure continuous mobilization readiness of Ready Reserve units and members, and to identify characteristics of civil service retirees for national mobilization purposes.

24. To disclose information to officials of the Department of Defense, National Oceanic and Atmospheric Administration, U.S. Public Health Service, and the U.S. Coast Guard needed to effect any adjustments in retired or retainer pay required by the dual compensation provisions of 5 U.S.C. 5532.

25. To disclose information to officials of the Merit Systems Protection Board, or the Office of the Special Counsel, when requested in connection with appeals, special studies of the civil service and other merit systems, review of rules and regulations, investigation of alleged or possible prohibited personnel practices, and such other functions, promulgated in 5 U.S.C. 1205 and 1206, or as may be authorized by law.

26. To disclose information to the Equal Employment Opportunity Commission when requested in connection with investigations of alleged or possible discriminatory practices, examination of Federal affirmative employment programs, or for other functions of the Commission as authorized by law or regulation.

27. To disclose to the Federal Labor Relations Authority (including its General Counsel) information related to the establishment of jurisdiction, the investigation and resolution of allegations of unfair labor practices, or information in connection with the resolution of exceptions to arbitration awards when a question of material fact is raised; to disclose information in matters properly before the Federal Services Impasses Panel, and to investigate representation petitions and conduct or supervise representation elections.

28. To disclose to prospective non-Federal employers, the following information about a specifically identified current or former employee: Tenure of employment; civil service status; length of service in VA and the Government; and when separated, the date and nature of action as shown on the Notification of Personnel Action-Standard Form 50 (or authorized exception).

29. Records from this system of records may be disclosed to a Federal, State, or local government agency or licensing board and/or to the Federation of State Medical Boards or a similar non-government entity. These entities maintain records concerning an individual's employment or practice histories or concerning the issuance, retention or revocation of licenses or registration necessary to practice an occupation, profession or specialty. Disclosures may be made for the Agency to obtain information determined relevant to an Agency's decision concerning the hiring, retention, or termination of an employee. Disclosures may also be made to inform licensing boards or the appropriate non-governmental entities about the health care practices of a terminated, resigned, or retired health care employee whose professional health care activity so significantly failed to conform to generally accepted standards of professional practice as to raise reasonable concern for the health and safety of patients.

30. To disclose relevant information to the Department of Justice and United States Attorneys in defense or prosecution of litigation involving the United States and to Federal agencies upon their request in connection with review of administrative tort claims filed under the Federal Tort Claims Act, 28 U.S.C. 2672.

31. To disclose hiring, performance, or other personnel-related information to any facility with which there is, or there is proposed to be, an affiliation, sharing agreement, contract, or similar arrangement, for purposes of establishing, maintaining, or expanding any such relationship.

32. Identifying information in this system, including name, address, Social Security number, and other information as is reasonably necessary to identify such individual, may be disclosed to the National Practitioner Data Bank at the time of hiring and/or clinical privileging/reprivileging of health care practitioners, and other times as deemed necessary by VA, in order for VA to obtain information relevant to a Department decision concerning the hiring, privileging/reprivileging, retention, or termination of the applicant or employee.

33. Relevant information from this system of records may be disclosed to the National Practitioner Data Bank or to a State or local government licensing board which maintains records concerning the issuance, retention, or revocation of licenses, certifications, or registrations necessary to practice an occupation, profession or specialty when under the following circumstances, through peer review process that is undertaken pursuant to VA policy, negligence, professional incompetence, responsibility for improper care, and/or professional misconduct has been assigned to a physician or licensed or certified health care practitioner: (1) On any payment in settlement (or partial settlement of, or in satisfaction of a judgement) in a medical malpractice action or claim; or, (2) on any final decision that adversely affects the clinical privileges of a physician or practitioner for a period of more than 30 days.

34. Relevant information from this system of records concerning the departure of a former VA employee, who is subject to garnishment pursuant to a legal process as defined in 5 U.S.C. 5520a, as well as the name and address of the designated agent for the new employing agency or the name and address of any new private employer, may be disclosed to the garnishing party (garnisher). Information from this system of records may be disclosed in response to legal processes, including interrogatories, served on the agency in connection with garnishment proceedings against current or former VA employees under 5 U.S.C. 5520a.

35. To disclose information to contractors, subcontractors, grantees, or others performing or working on a contract, grant or cooperative agreement for the Federal government, provided disclosure is in the interest of the Government and the information to be disclosed is relevant and necessary for accomplishing the intended uses of the information and necessary to perform services under the contract, grant or cooperative agreement.

36. To disclose to a spouse or dependent child (or court-appointed guardian thereof) of a VA employee enrolled in the Federal Employees Health Benefits Program, upon request, whether the employee has changed from a self-and-family to a self-only health benefits enrollment.

37. To disclose to the Federal Retirement Thrift Investment Board information concerning an employee's election to participate in the Thrift Savings Plan, the employee's ineligibility to make contributions to the Thrift Savings Plan because a financial hardship in-service withdrawal has been issued, or information from a transcript of thrift savings plan changes that has been approved by the Federal Retirement Thrift Investment Board.

38. Information from this system of records will be disclosed to the Healthcare Integrity and Protection Data Base as required by section 1122E of the Social Security Act (as added by Sec. 221(a) of Pub. L. 104-191) and the associated implementing regulations issued by the Department of Health and Human Services, 45 CFR Part 61. For example, VA is required to report adjudicated adverse personnel actions based on acts or omissions that either affected or could have affected the delivery of health care services.

Policies and Practices for Storing, Retrieving, Accessing, Retaining and Disposing of Records in the System

Storage:

These records may be maintained in file folders, on lists and forms, on microfilm or microfiche, and in computer processable storage media.

Retrievability:

These records may be retrieved using various combinations of name, birth date, Social Security number, or identification number of the individual on whom they are maintained.

Safeguards:

Access to areas where these records are maintained is restricted to VA employees, contractors, or subcontractors on a “need to know” basis; strict control measures are enforced to ensure that disclosure to these individuals is also based on this same principle. File areas are locked after normal duty hours and are protected from outside access by the Federal Protective Service or other types of alarm systems.

Access to the VA Austin Automation Center and VA Shared Service Center are restricted to authorized VA employees and authorized representatives of vendors. Access to computer rooms within these facilities is further restricted to especially authorized VA personnel and vendor personnel.

Access to computerized records is limited through the use of access codes and entry logs. Additional protection is provided by electronic locking devices, alarm systems, and guard services.

Electronic data is made available to VA field facilities via VA's Intranet. Strict control measures are enforced to ensure that disclosure is limited to the individual on whom the record is being maintained or on a “need to know” basis. Security devices (e.g. passwords, firewalls) are used to control access by VA users to Internet services, and to shield VA networks and systems from outside the firewall.

Retention and Disposal:

The Merged Personnel Records Folder (MPRF) is maintained for the period of the employee's service in VA and is then transferred to the National Personnel Records Center (NPRC) for storage, or, as appropriate, to the next employing Federal agency. Other records are either retained at VA for various lengths of time in accordance with the National Archives and Records Administration records schedules or destroyed when they have served their purpose or the employee leaves VA.

a. VA maintains the MPRF as long as VA employs the individual. Within 90 days after the individual separates from VA's employment, the MPRF is sent to the NPRC for long-term storage. The MPRF of a retired employee or an employee who dies in service is sent to the Records Center within 120 days of the retirement or death.

b. Records in this system must be maintained and disposed of in accordance with General Records Schedule 1, and VA Records Control Schedule 10-1, the Office of Personnel Management Guide to Federal Recordkeeping, and the Memorandum of Understanding concerning this subject between VA, the Office of Personnel Management, and the National Archives and Records Administration.

System Manager(s) and Address:

Deputy Assistant Secretary for Human Resources Management (05), Department of Veterans Affairs, 810 Vermont Avenue, NW, Washington, DC 20420.

Notification Procedure:

Individuals wishing to inquire whether this system of records contains information about them should contact the appropriate office as follows:

a. Federal employees should contact the responsible official (as designated by their agency) regarding records in this system.

b. Former Federal employees should contact the National Personnel Records Center (Civilian), 111 Winnebago Street, St. Louis, Missouri 63118, regarding the records in this system. Individuals must furnish the following information so their records can be located and identified: full name(s), date of birth, Social Security number, last employing agency (including duty station, when applicable), and approximate dates of employment. All requests must be signed.

Record Access Procedures:

(See Notification Procedure.)

Contesting Record Procedures:

Current and former VA employees wishing to request amendment of their records should contact the Director, Department of Veterans Affairs Shared Service Center (00), 3401 SW 21st Street, Topeka, Kansas 66604. Individuals must furnish the following information for their records to be located and identified: Full name(s), date of birth, Social Security number, and signature. To facilitate identification of records, former employees must also provide the name of their last Department of Veterans Affairs facility and approximate dates of employment.

Record Source Categories:

Information in this system of records is provided by the individual employee, examining physicians, educational institutions, VA officials, and other individuals or entities; e.g., job references and supporting statements; testimony of witnesses; and correspondence from organizations or persons, e.g., licensing boards.

[FR Doc. 00-18287 Filed 7-19-00; 8:45 am]

BILLING CODE 8320-01-P